DEPARTMENT OF TRANSPORTATION

Federal Aviation Administration

14 CFR Part 71

[Docket No. FAA-2010-0813; Airspace Docket No. 09-AEA-12]

RIN 2120-AA66

Proposed Revocation of VOR Federal Airway V-284; New Jersey

AGENCY: Federal Aviation Administration (FAA), DOT.

ACTION: Notice of proposed rulemaking (NPRM); withdrawal.

SUMMARY: The FAA is withdrawing the Notice of proposed rulemaking published in the Federal Register on September 3, 2010, to remove VHF omnidirectional range (VOR) Federal airway V-284, which extends between Sea Isle, NJ and Cedar Lake, NJ. Upon further consideration, the FAA has determined that an operational requirement for the airway still exists; therefore, withdrawal of the proposed rule is warranted.

DATES: Effective date 0901 UTC, March 8, 2011. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

History

On September 3, 2010, the FAA published in the Federal Register an NPRM proposing to amend Title 14, Code of Federal Regulations (14 CFR) part 71 by removing VOR Federal Airway V-284 (75 FR 54058), Docket No. FAA-2010-0813. Interested parties were invited to participate in this rulemaking effort by submitting written comments on the proposal. Four comments were received.

Discussion of Comments

The Aircraft Owners and Pilots Association and three individuals submitted comments on the proposal. All commenters opposed the removal of V-284. The commenters stated that revocation of V-284 would reduce efficiency of operations for non-Global Positioning System equipped aircraft transiting the Delaware-New Jersey-New York City-Philadelphia areas. For such aircraft, the VOR Federal airway system remains the primary means of navigation for Instrument Flight Rules operations. The commenters also indicated that the elimination of this convenient and viable route could require pilots to deviate from their desired course, adding flight time and expense to their operations.

FAA's Conclusions

Upon further consideration, we have determined that the removal of V-284 is not warranted at this time. Therefore, the NPRM is withdrawn.

List of Subjects in 14 CFR Part 71

Airspace, Incorporation by reference, Navigation (air).

The Withdrawal

Accordingly, pursuant to the authority delegated to me, the FAA withdraws the NPRM published in the Federal Register on September 3, 2010 (75 FR 54058) [FR Doc. 2010-22007].

Authority: 49 U.S.C. 106(g), 40103, 40113, 40120; E.O. 10854; 24 FR 9565, 3 CFR, 1959-1963 Comp., p. 389.

Issued in Washington, DC, on March 2, 2011.
Rodger A. Dean,
Acting Manager, Airspace, Regulations and ATC Procedures Group.

[FR Doc. 2011-5244 Filed 3-7-11; 8:45 am]

BILLING CODE 4910-13-P